DEPARTMENT OF HEALTH AND HUMAN SERVICES

Office of the Secretary

Findings of Scientific Misconduct

AGENCY: Office of the Secretary, HHS.

ACTION: Notice; correction.

SUMMARY: The Office of the Secretary, HHS, published a notice in the Federal Register of November 13, 2003, concerning a finding of scientific misconduct regarding Dr. Smith. The document contained an omission and a typographical error.

FOR FURTHER INFORMATION CONTACT: Director, Division of Investigative Oversight, Office of Research Integrity, 301-443-5330.

Correction

In the Federal Register of November 13, 2003, in FR Doc. 03-28377, on page 64351 in the second column following line 11, insert the following text to read:

VII. Dissertation Table 11 entitled “EPR determined inter-nitroxide distances for NSAID and arachidonate complexes of PGH-2 MBD mutants;”

and change the previously-printed Roman number VII to Roman number VIII.

Dated: November 14, 2003.
Chris B. Pascal,
Director, Office of Research Integrity.

[FR Doc. 03-29066 Filed 11-20-03; 8:45 am]

BILLING CODE 4150-31-P